DEPARTMENT OF THE INTERIOR

National Park Service

[2253-665]

Notice of Inventory Completion: Central Washington University Department of Anthropology, Ellensburg, WA

AGENCY: National Park Service, Interior.

ACTION: Notice.

SUMMARY: The Central Washington University Department of Anthropology has completed an inventory of human remains and associated funerary object in consultation with the appropriate Indian tribe, and has determined that there is a cultural affiliation between the human remains and associated funerary object and a present-day Indian tribe. Representatives of any Indian tribe that believes itself to be culturally affiliated with the human remains and associated funerary object may contact the Central Washington University Department of Anthropology. Repatriation of the human remains and associated funerary object to the Indian tribe stated below may occur if no additional claimants come forward.

DATES: Representatives of any Indian tribe that believes it has a cultural affiliation with the human remains and associated funerary object should contact the Central Washington University Department of Anthropology at the address below by March 28, 2012.

ADDRESSES: Lourdes Henebry-DeLeon, Central Washington University Department of Anthropology, Ellensburg, WA 98926-7544, telephone (509) 963-2671.

SUPPLEMENTARY INFORMATION: Notice is here given in accordance with the Native American Graves Protection and Repatriation Act (NAGPRA), 25 U.S.C. 3003, of the completion of an inventory of human remains and an associated funerary object in the control of Central Washington University Department of Anthropology, Ellensburg, WA. The human remains and associated funerary object were removed from Stevens County, WA.

This notice is published as part of the National Park Service's administrative responsibilities under NAGPRA, 25 U.S.C. 3003(d)(3). The determinations in this notice are the sole responsibility of the museum, institution or Federal agency that has control of the Native American human remains and associated funerary object. The National Park Service is not responsible for the determinations in this notice.

Consultation

A detailed assessment of the human remains was made by the Central Washington University Department of Anthropology professional staff in consultation with representatives of the Confederated Tribes of the Colville Reservation, Washington.

History and Description of the Remains

On an unknown date, human remains representing, at minimum, one individual were removed from Stevens County, WA, by an unknown individual. In 1974, the Thomas Burke Memorial State Museum (Burke Museum), University of Washington, transferred the human remains and associated funerary object to Central Washington University. The one associated funerary object is a bone tool.

Documentation with the human remains states that the remains were recovered from “Colville” in Stevens County, WA. Based on osteological evidence and the associated funerary object, the human remains are Native American. The geographic location within the Plateau Culture Area, oral tradition, anthropological and historical research all indicate that the town of Colville lies within an area occupied by the San Poil and Nespelem tribes or bands, who are members of and legally represented by the Confederated Tribes of the Colville Reservation, Washington. Both the Colville and the Lakes tribes were part of the twelve tribes or bands that comprise the Confederated Tribes of the Colville Reservation, Washington.

Determinations Made by the Central Washington University, Department of Anthropology

Officials of Central Washington University Department of Anthropology have determined that:

• Pursuant to 25 U.S.C. 3001(9), the human remains described in this notice represent the physical remains of one individual of Native American ancestry.

• Pursuant to 25 U.S.C. 3001(3)(A), the one object described above is reasonably believed to have been placed with or near individual human remains at the time of death or later as part of the death rite or ceremony.

• Pursuant to 25 U.S.C. 3001(2), there is a relationship of shared group identity that can be reasonably traced between the Native American human remains and associated funerary object and the Confederated Tribes of the Colville Reservation, Washington.

Additional Requestors and Disposition

Representatives of any Indian tribe that believes itself to be culturally affiliated with the human remains and associated funerary object should contact Lourdes Henebry-DeLeon, Central Washington University Department of Anthropology, 400 University Drive, Ellensburg, WA 98926-7544, telephone (509) 963-2671, before March 28, 2012. Repatriation of the human remains and associated funerary object to the Confederated Tribes of the Colville Reservation, Washington, may proceed after that date if no additional claimants come forward.

The Central Washington University Department of Anthropology is responsible for notifying the Confederated Tribes of the Colville Reservation, Washington, that this notice has been published.

Dated: February 22, 2012.
Sherry Hutt,
Manager, National NAGPRA Program.

[FR Doc. 2012-4517 Filed 2-24-12; 8:45 am]

BILLING CODE 4312-50-P